DEPARTMENT OF THE INTERIOR

Fish and Wildlife Service

Klamath Fishery Management Council

AGENCY: Fish and Wildlife Service, Interior.

ACTION: Notice of meeting.

SUMMARY: We, the Fish and Wildlife Service, announce a meeting of the Klamath Fishery Management Council. The meeting is open to the public. The Klamath Fishery Management Council makes recommendations to agencies that regulate harvest of anadromous fish in the Klamath River Basin. The objectives of this meeting is to hear technical reports, to discuss and develop Klamath fall Chinook salmon harvest management options for the 2006 season, and to make recommendations to the Pacific Fishery Management Council and other Fishery Management agencies.

DATES: The meeting will be from 3 p.m. to 7 p.m. on Sunday, April 2, 2006. At the April 2, 2006, meeting the Klamath Fishery Management Council may schedule short follow-up meetings to be held between April 3-7, 2006.

ADDRESSES: The April 2-7, 2006, meeting will be held at Doubletree Hotel Sacramento, 2001 Point West Way, Sacramento, California. The April 2006, meeting in Sacramento, California, is held concurrently with the meetings of the Pacific Fishery Management Council.

FOR FURTHER INFORMATION CONTACT: Phil Detrich, Field Supervisor, U.S. Fish and Wildlife Service, 1829 South Oregon Street, Yreka, California 96097, telephone (530) 842-5763.

SUPPLEMENTARY INFORMATION: Under section 10(a)(2) of the Federal Advisory Committee Act (5 U.S.C. App. I), we announce meetings of the Klamath Fishery Management Council. This Council was established under the Klamath River Basin Fishery Restoration Act (16 U.S.C. 460ss et seq.).

For background information on the Council, please refer to the Federal Register notice of the initial meeting (52 FR 25639).

Dated: March 10, 2006.
John Engbring,
Acting Deputy Manager, California/Nevada Operations Office, U.S. Fish and Wildlife Service.

[FR Doc. E6-3795 Filed 3-15-06; 8:45 am]

BILLING CODE 4310-55-P